DEPARTMENT OF AGRICULTURE

Submission for OMB Review; Comment Request

March 13, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 16, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program (SNAP) Pre-Screening Tool.

OMB Control Number: 0584-0519.

Summary of Collection: This is a renewal of an existing information collection. Consistent with Section 5 of the Food and Nutrition Act of 2008, as amended, the Food and Nutrition Service (FNS) has developed the Supplemental Nutrition Assistance Program (SNAP) Pre-Screening Tool to enable the public to determine the potential eligibility for benefits in the Supplemental Nutrition Assistance Program (SNAP).

Need and Use of the Information: The pre-screening tool allows users to enter the household size, income, expenses and resource information in order to calculate an estimated range of benefits that the household may be eligible to receive. Since SNAP eligibility and benefit amount may vary based on program options States have implemented, FNS makes it clear that the tool is only an estimator and the household will need to contact the local agency to determine actual eligibility and the associated benefit amount.

Description of Respondents: Individuals or households.

Number of Respondents: 380,283.

Frequency of Responses: Reporting: On occasion.

Total Burden Hours: 63,507.

Food and Nutrition Service

Title: FNS User Access Request Form.

OMB Control Number: 0584-0532.

Summary of Collection: This is a renewal of an existing information collection. Office of Management and Budget (OMB) Circular A-130, Appendix III, Security of Federal Automated Information Resources, revised November 28, 2000, establishes a minimum set of controls to be included in Federal automated information security programs. Establishing personal controls to screen users to allow access to authorized system is directed in this appendix. The FNS User Access Request Form, FNS-674, is designed for this purpose and will be used in all situations where access to an FNS computer system is required or where current access is required to be modified and can be used where access is no longer required and must be deleted.

Need and Use of the Information: The purpose of this information collection request is to continue the use of the electronic form FNS-674, titled “User Access Request Form.” This form will continue to allow user access to current FNS systems, as well as allow modified access or remove user access.

Description of Respondents: State, Local, or Tribal Government; Federal Government; Businesses or other for-profit.

Number of Respondents: 2,700.

Frequency of Responses: Reporting: On occasion.

Total Burden Hours: 870.

Ruth Brown,
Departmental Information Collection Clearance Officer.

[FR Doc. 2018-05356 Filed 3-15-18; 8:45 am]

BILLING CODE 3410-30-P